DEPARTMENT OF ENERGY

Federal Energy Regulatory Commission

[Project No. 663-072]

Puerto Rico Electric Power Authority; Notice of Intent To File License Application, Filing of Pre-Application Document, Approving Use of the Traditional Licensing Process

a. Type of Filing: Notice of Intent (NOI) to File License Application and Request to Use the Traditional Licensing Process (TLP).

b. Project No.: 663-072.

c. Date Filed: August 12, 2024, and December 17, 2024.

d. Submitted by: Puerto Rico Electric Power Authority (PREPA).

e. Name of Project: Río Blanco Hydroelectric Project.

f. Location: On the Río Blanco, on the southern border of the El Yunque National Forest in the Municipality of Naguabo, near the community of Florida, Puerto Rico. The project occupies 2.2 acres of United States land administered by the U.S. Forest Service.

g. Filed Pursuant to: 18 CFR 5.3 of the Commission's regulations.

h. Potential Applicant Contact: Eng. Jaime Umpierre Montalvo, P.E., Puerto Rico Electric Power Authority, 1110 Ponce de Leon Ave. Pda 17½, NEOS Building, Office #701, Santurce, San Juan, PR 00936; (787) 521-4605; or email at jaime.umpierre@prepa.pr.gov.

i. FERC Contact: Sarah Salazar at (202) 502-6863; or email at sarah.salazar@ferc.gov.

j. PREPA filed its request to use the TLP and provided public notice of its request on December 17, 2024. In a letter dated February 13, 2025, the Director of the Division of Hydropower Licensing approved PREPA's request to use the TLP.

k. With this notice, we are initiating informal consultation with the U.S. Fish and Wildlife Service and/or NOAA Fisheries under section 7 of the Endangered Species Act and the joint agency regulations thereunder at 50 CFR part 402; and NOAA Fisheries under section 305(b) of the Magnuson-Stevens Fishery Conservation and Management Act and implementing regulations at 50 CFR 600.920. We are also initiating consultation with the Puerto Rico State Historic Preservation Officer, as required by section 106, National Historic Preservation Act, and the implementing regulations of the Advisory Council on Historic Preservation at 36 CFR 800.2.

l. With this notice, we are designating PREPA as the Commission's non-federal representative for carrying out informal consultation pursuant to section 7 of the Endangered Species Act; and consultation pursuant to section 106 of the National Historic Preservation Act.

m. PREPA filed a Pre-Application Document (PAD), including a proposed process plan and schedule, with the Commission, pursuant to 18 CFR 5.6 of the Commission's regulations.

n. A copy of the PAD may be viewed on the Commission's website (http://www.ferc.gov), using the “eLibrary” link. Enter the docket number, excluding the last three digits in the docket number field, to access the document. For assistance, contact FERC Online Support at FERCOnlineSupport@ferc.gov, (866) 208-3676 (toll free), or (202) 502-8659 (TTY). A copy is also available for inspection and reproduction at the address in paragraph h.

You may register online at https://ferconline.ferc.gov/FERCOnline.aspx to be notified via email of new filings and issuances related to this or other pending projects. For assistance, contact FERC Online Support.

The licensee states its unequivocal intent to submit an application for a new license for Project No. 663. Pursuant to 18 CFR 16.8, 16.9, and 16.10 each application for a new license and any competing license applications must be filed with the Commission at least 24 months prior to the expiration of the existing license. All applications for a license for this project must be filed by August 19, 2027.

o. The Commission's Office of Public Participation (OPP) supports meaningful public engagement and participation in Commission proceedings. OPP can help members of the public, including landowners, community organizations, Tribal members, and others, access publicly available information and navigate Commission processes. For public inquiries and assistance with making filings such as interventions, comments, or requests for rehearing, the public is encouraged to contact OPP at (202) 502-6595 or OPP@ferc.gov.

Dated: February 13, 2025.
Debbie-Anne A. Reese,
Secretary.

[FR Doc. 2025-02837 Filed 2-19-25; 8:45 am]

BILLING CODE 6717-01-P